DEPARTMENT OF COMMERCE

International Trade Administration

[A-570-977]

High Pressure Steel Cylinders From the People's Republic of China: Postponement of Final Determination of Antidumping Duty Investigation

AGENCY: Import Administration, International Trade Administration, Department of Commerce.

DATES: Effective Date: January 9, 2012.

FOR FURTHER INFORMATION CONTACT: Emeka Chukwudebe or Alan Ray, AD/CVD Operations, Office 9, Import Administration, International Trade Administration, U.S. Department of Commerce, 14th Street and Constitution Avenue NW., Washington DC 20230; telephone: (202) 482-0219 or (202) 482-5403, respectively.

SUPPLEMENTARY INFORMATION:

Background

On May 31, 2011, the Department of Commerce (“Department”) initiated an antidumping duty investigation on high pressure steel cylinders from the People's Republic of China (“PRC”).¹ On December 15, 2011, the Department published its preliminary determination of sales at less than fair value.² The final determination of this antidumping duty investigation is currently due 75 days after the date of the Preliminary Determination.³

¹ See High Pressure Steel Cylinders from the People's Republic of China: Initiation of Antidumping Duty Investigation, 76 FR 33213 (June 8, 2011).

² See High Pressure Steel Cylinders From the People's Republic of China: Preliminary Determination of Sales at Less Than Fair Value, 76 FR 77964 (December 15, 2011) (“Preliminary Determination”).

³ See section 735(a)(1) of the Tariff Act of 1930, as amended (“Act”). The Department incorrectly noted the deadline for the final determination as 135 days after publication of the Preliminary Determination. See Preliminary Determination, 76 FR at 77974.

Postponement of Final Determination and Extension of Provisional Measures

Section 735(a)(2) of the Act provides that the Department may postpone a final determination until no later than 135 days after the date of the publication of the preliminary determination if, in the event of an affirmative determination, a request for such postponement is made by exporters who account for a significant proportion of exports of the subject merchandise, or in the event of a negative preliminary determination, a request for such postponement is made by petitioner. In addition, 19 CFR 351.210(e)(2) requires that requests by respondents for postponement of a final determination be accompanied by a request for extension of provisional measures from a four-month period to not more than six months.

On December 12, 2011, Beijing Tianhai Industry Co., Ltd., the entity comprising the sole mandatory respondent in this investigation, requested a postponement of the final determination and an extension of the provisional measures pursuant to section 735(a)(2) of the Act and 19 CFR 351.210(e)(2). In accordance with section 735(a)(2) of the Act and 19 CFR 351.210(b), because (1) Our preliminary determination is affirmative, (2) the requesting exporter accounts for a significant proportion of exports of the subject merchandise,⁴ and (3) no compelling reasons for denial exist, we are granting the request and are postponing the final determination until no later than 135 days after the publication of the preliminary determination notice in the Federal Register, or April 28, 2012.⁵ Suspension of liquidation will be extended accordingly.

⁴ See, e.g., Preliminary Determination, 76 FR at 77965.

⁵ As April 28, 2012, is a Saturday, the signature day will be the next business day, April 30, 2012, in accordance with our practice. See Notice of Clarification: Application of “Next Business Day” Rule for Administrative Determination Deadlines Pursuant to the Tariff Act of 1930, As Amended, 70 FR 24533 (May 10, 2005).

This notice is issued and published pursuant to sections 777(i) and 735(a)(2) of the Act and 19 CFR 351.210(g).

Dated: December 30, 2011.
Susan Kuhbach,
Acting Assistant Secretary for Import Administration.

[FR Doc. 2012-78 Filed 1-6-12; 8:45 am]

BILLING CODE 3510-DS-P